DEPARTMENT OF TRANSPORTATION

Federal Aviation Administration

Notice of Intent of Waiver With Respect to Land; Akron-Canton Airport, North Canton, OH

AGENCY: Federal Aviation Administration (FAA), DOT.

ACTION: Notice.

SUMMARY The FAA is considering a proposal to change 31.581 acres of airport land from aeronautical use to non-aeronautical use and to authorize the lease of airport property located at Akron-Canton Airport, North Canton, OH. The aforementioned land consists of a partial release of Parcel ID 00 (4.53 acres) and Parcel ID 38 (27.051 acres) which is not needed for aeronautical use. The parcels are located in the Northwest quadrant of the airport, south of Greensburg Road, North Canton, OH. The property is currently designated as aeronautical use for compatible land use in support of the airfield approach. The proposed non-aeronautical use is for commercial/general industrial development.

DATES: Comments must be received on or before March 26, 2018.

ADDRESSES: Documents are available for review by appointment at the FAA Detroit Airports District Office, Evonne M. McBurrows, 11677 South Wayne Road, Suite 107, Romulus, MI, 48174 Telephone: (734) 229-2900/Fax: (734) 229-2950 and Akron-Canton Airport, 5400 Lauby Road NW#9, North Canton, OH. Telephone: (330) 499-4059.

Written comments on the Sponsor's request must be delivered or mailed to: Evonne M. McBurrows, Program Manager, Federal Aviation Administration, Detroit Airports District Office, 11677 South Wayne Road, Suite 107, Romulus, MI 48174, Telephone Number: (734) 229-2900/FAX Number: (734) 229-2950.

FOR FURTHER INFORMATION CONTACT: Evonne M. McBurrows, Program Manager, Federal Aviation Administration, Detroit Airports District Office, 11677 South Wayne Road, Suite 107, Romulus, MI 48174. Telephone Number: (734) 229-2900/FAX Number: (734) 229-2950.

SUPPLEMENTARY INFORMATION: In accordance with section 47107(h) of Title 49, United States Code, this notice is required to be published in the Federal Register 30 days before modifying the land-use assurance that requires the property to be used for an aeronautical purpose.

The property is currently designated as aeronautical use for compatible land use. This parcel of land (31.581 acres) was acquired with federal funds under project numbers 6-39-0001-08 and 3-39-0001-26. Akron-Canton Regional Airport Authority (AA) proposed non-aeronautical use is for commercial/general industrial development. AA will lease the land and receive fair market value.

The disposition of proceeds from the lease of the airport property will be in accordance with FAA's Policy and Procedures Concerning the Use of Airport Revenue, published in the Federal Register on February 16, 1999 (64 FR 7696).

This notice announces that the FAA is considering the release of the subject airport property at the Akron-Canton Airport, North Canton, OH from its obligations to be maintained for aeronautical purposes. Approval does not constitute a commitment by the FAA to financially assist in the change in use of the subject airport property nor a determination of eligibility for grant-in-aid funding from the FAA.

Legal Description for: Lease Parcel 31.581 Acres

The land referred to in the commitment is described as follows:

Situated in the City of Green, County of Summit, State of Ohio and known as being Lot 24 in the CAK International Business Park No. 3 Port Green, as shown on the recorded plat in Reception No. 55975637 and re-recorded as Reception No. 56001757 of Summit County Records.

Description of Leasehold Estate

Situated in the City of Green, County of Summit, and State of Ohio and known as being a part of Lot No. 24 in CAK International Business Park No. 3 Port Green as shown by plat recorded in Reception No. 55975637 and re-recorded as Reception No. 56001757 of Summit County Records and parts of the Southwest Quarter of Section No. 26 and the Northwest Quarter of Section No. 35 in the Twelfth Township of the Ninth Range of the Congress Lands North of the Old Seven Ranges, now in said city, and is bounded and described as follows:

Beginning in the easterly line of Global Parkway, 60 feet in width, at its intersection with the southerly line of said Lot No. 24, said point of beginning being marked by a ⅝ inch diameter iron pin stake (“ENVR. DESIGN GROUP” Akron Ohio) found therein;

COURSE I Thence North 1°20′39″ East along said easterly line of Global Parkway a distance of 567.36 feet to a point at the beginning of a curve therein and witness a one inch diameter iron pin stake in a monument box in the centerline of said Global Parkway bearing North 88°39′21″ West a distance of 30.00 feet therefrom;

COURSE II Thence northerly continuing along said easterly line of Global Parkway on the arc of a curve deflecting to the LEFT (said curve having a radius of 830.00 feet, an included angle of 15°54′54″, and a chord which bears North 6°36′48″ West and is 229.81 feet in length) a distance of 230.55 feet to the point of tangency and witness a one inch diameter iron pin stake in a monument box in the centerline of said Global Parkway bearing South 75°25′46″ West a distance of 30.00 feet therefrom;

COURSE III Thence North 14°34′14″ West continuing along said easterly line of Global Parkway a distance of 412.97 feet to a point at the beginning of a curve therein and witness a one inch diameter iron pin stake in a monument box in the centerline of said Global Parkway bearing South 75°25′46″ West a distance of 30.00 feet therefrom;

COURSE IV Thence northerly continuing along said easterly line of Global Parkway on the arc of a curve deflecting to the RIGHT (said curve having a radius of 770.00 feet, an included angle of 13°34′14″, and a chord which bears North 7°47′07″ West and is 181.95 feet in length) a distance of 182.37 feet to the point of tangency and witness a one inch diameter iron pin stake in a monument box in the centerline of said Global Parkway bearing South 89°00′00″ West a distance of 30.00 feet therefrom;

COURSE V Thence North 1°00′00″ West continuing along said easterly line of Global Parkway a distance of 4.93 feet to a point therein;

COURSE VI Thence North 78°23′22″ East a distance of 695.21 feet to a point in an easterly line of the aforesaid Lot No. 24;

COURSE VII Thence South 12°16′15″ East a distance of 481.03 feet to a point;

COURSE VIII Thence South 88°14′09″ East by a line which is parallel with a northerly line of said Lot No. 24 and 20.00 feet northerly by normal measure therefrom, a distance of 183.20 feet to a point;

COURSE IX Thence South 12°16′59″ East at 20.62 feet passing through a northerly line of said Lot No. 24 and at 313.70 feet passing through the easterly line of said Lot No. 24, a total distance of 470.61 feet to a point;

COURSE X Thence South 4°22′58″ West by a line which is parallel with the most southerly line of said Lot No. 24 and 45.00 feet easterly by normal measure therefrom, a distance of 661.53 feet to a point;

COURSE XI Thence South 78°10′29″ West by a line which is parallel with the most southerly line of said Lot No. 24 and 155.00 feet southerly by normal measure therefrom, a distance of 899.28 feet to the aforesaid easterly line of Global Parkway;

COURSE XII Thence North 1°20′39″ East along said easterly line of Global Parkway a distance of 159.19 feet to the point of beginning and containing a total of 31.581 Acres of land of which 27.051 Acres of land is contained within the bounds of said Lot No. 24.

Bearings contained herein are based upon the State of Ohio Co-ordinate System of 1983 (North Zone) from observations utilizing the NAD83(2011) Reference Frame.

The intent of the above is to provide a description of the perimeter of a leasehold estate upon lands currently designated as Summit County Auditor's Permanent Parcels No. 2815964 and No. 2809144.

The Akron Canton Regional Airport Authority claims title to the above described parcel of land by or through documents recorded in Instrument No. 56001757 and Volume 6870, Page 685 of Summit County Deed Records.

Thomas M. Meeks,

Ohio Registered Surveyor No. 8764.

Issued in Romulus, Michigan, on February 12, 2018.
John L. Mayfield, Jr.,
Manager, Detroit Airports District Office, FAA, Great Lakes Region.

[FR Doc. 2018-03654 Filed 2-21-18; 8:45 am]

BILLING CODE 4910-13-P